DEPARTMENT OF HEALTH AND HUMAN SERVICES

National Institutes of Health

Center for Scientific Review; Amended Notice of Meeting

Notice is hereby given of a change in the meeting of the Prokaryotic Cell and Molecular Biology Study Section, June 21, 2006, 8:30 a.m. to June 22, 2006, 6:30 p.m., St. Gregory Hotel, 2033 M Street, NW., Washington, DC 20036 which was published in the Federal Register on May 11, 2006, 71 FR 27505-27507.

The meeting will be held on June 20, 2006 to June 21, 2006. The meeting time and location remain the same. The meeting is closed to the public.

Dated: May 17, 2006.
Anna Snouffer,
Acting Director, Office of Federal Advisory Committee Policy.

[FR Doc. 06-4784 Filed 5-22-06; 8:45 am]

BILLING CODE 4140-01-M